DEPARTMENT OF DEFENSE

Office of the Secretary

[Docket ID: DoD-2021-OS-0108]

Submission for OMB Review; Comment Request

AGENCY: The Office of the Under Secretary of Defense for Research and Engineering, Department of Defense (DoD).

ACTION: 30-Day information collection notice.

SUMMARY: The DoD has submitted to OMB for clearance the following proposal for collection of information under the provisions of the Paperwork Reduction Act.

DATES: Consideration will be given to all comments received by January 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, (571) 372-7574, whs.mc-alex.esd.mbx.dd-dod-information-collections@mail.mil.

SUPPLEMENTARY INFORMATION: Title; Associated Form; and OMB Number: Defense User Registration System; OMB Control Number 0704-0546.

Type of Request: Revision.

Number of Respondents: 5,836.

Responses per Respondent: 1.

Annual Responses: 5,836.

Average Burden per Response: 10 minutes.

Annual Burden Hours: 973.

Needs and Uses: The Defense Technical Information Center (DTIC) requires all eligible users to be registered for access to DTIC's repository of access-controlled scientific and technical information documents. The Defense User Registration System (DURS) collects registration requests from respondents, validates their eligibility, and maintains an official registry that identifies individuals who apply for, and are granted access privileges to DTIC owned or controlled databases, products, services, and electronic information systems. The registration of a user enforces validation of an individual's identity, as well as that individual's persona (i.e., whether the individual is DoD, Federal government, or a contractor supporting the DoD or another federal agency) and authority to access limited and classified documents with distribution controls. A role-based environment based on a user's identification ensures security for DTIC's electronic information collection while the online systems increase availability of information to each user based on his or her mission needs.

Affected Public: Individuals or Households; Business or Other For-Profit; Not-For-Profit Institutions.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: December 16, 2021.
Aaron T. Siegel,
Alternate OSD Federal Register Liaison Officer, Department of Defense.

[FR Doc. 2021-27675 Filed 12-21-21; 8:45 am]

BILLING CODE 5001-06-P